DEPARTMENT OF HOMELAND SECURITY

U.S. Customs and Border Protection

Notice of Revocation of Customs Brokers' Licenses

AGENCY: U.S. Customs and Border Protection, Department of Homeland Security.

ACTION: Revocation of customs brokers' licenses.

SUMMARY: This document provides notice of the revocation of customs brokers' licenses by operation of law.

FOR FURTHER INFORMATION CONTACT: Melba Hubbard, Branch Chief, Broker Management, Office of Trade, (202) 325-6986, melba.hubbard@cbp.dhs.gov.

SUPPLEMENTARY INFORMATION: This document provides notice that, pursuant to section 641 of the Tariff Act of 1930, as amended (19 U.S.C. 1641), and section 111.30(d) of title 19 of the Code of Federal Regulations (19 CFR 111.30(d)), the following customs brokers' licenses were revoked by operation of law, without prejudice, for failure to file a triennial status report. A list of revoked customs brokers' licenses appears below with both the ports which issued the licenses and the brokers' names within each port of issuance whose licenses were revoked, set forth alphabetically.

Last/company name | First name | License | Port of issuance
Barber | Karen | 28306 | Atlanta.
Dennison | Jonathan | 30796 | Atlanta.
Foster | Tracy | 17167 | Atlanta.
Gao | Yan | 23374 | Atlanta.
Generke | Ruth | 30703 | Atlanta.
Hutton | Jonathan | 16625 | Atlanta.
Lanoie | John | 30648 | Atlanta.
Okolo | Jerome | 29152 | Atlanta.
Robie | Kathleen | 20432 | Atlanta.
Rodriguez | Rita | 30472 | Atlanta.
Schultz | Janet | 16793 | Atlanta.
Turner | Michael | 16476 | Atlanta.
Vaughn | Amy | 21076 | Atlanta.
Ward | Linda | 23830 | Atlanta.
Yan | Yutao | 32233 | Atlanta.
Zhang | Ying | 24133 | Atlanta.
Davis-Smith | Dawn | 23248 | Baltimore.
Dill | Katrina | 29599 | Baltimore.
Dimarco | Antoinette | 13103 | Baltimore.
Dugan | Andrea | 13250 | Baltimore.
Marshall | Kathleen | 21574 | Baltimore.
Polacke | Cybll | 28931 | Baltimore.
Premium Logistics North America LLC |  | 30362 | Baltimore.
Shubert | Linda | 17372 | Baltimore.
Taffe | Kathryn | 12528 | Baltimore.
Twomey | Robert | 17023 | Baltimore.
Barlow | Kathleen | 11535 | Boston.
Buckley | Christopher | 15258 | Boston.
Busch | John | 23804 | Boston.
Carignan | Dennis | 11426 | Boston.
Frye-Wright | Cheryl | 09210 | Boston.
Fugere | Gloria | 05927 | Boston.
Galins | Astra | 14835 | Boston.
Gallagher | Janet | 12093 | Boston.
Holmes | Douglas | 12124 | Boston.
Leadbetter Jr | Robert | 22573 | Boston.
McClenahan | Randall Dean | 11655 | Boston.
Murphy | Robert | 16028 | Boston.
Nacca | Richard | 28728 | Boston.
Neary | Anne | 11050 | Boston.
O'Brien | Donald | 10476 | Boston.
Pearson | Valerie | 07464 | Boston.
Perrone | Donald | 06898 | Boston.
Peschier | Robert | 11038 | Boston.
Reinisch | Helga | 22163 | Boston.
Siler | William | 08035 | Boston.
Somers | Richard | 07937 | Boston.
Waite II | Harvey | 09235 | Boston.
Wyatt | Patricia | 05832 | Boston.
Anastasi | Thompson | 09041 | Buffalo.
Arena | Robert | 05050 | Buffalo.
Bartenstein | Frank | 15826 | Buffalo.
Benish | Deborah | 07931 | Buffalo.
Brei | Kenly | 30050 | Buffalo.
Cala | Margaret | 10502 | Buffalo.
Davis | Elizabeth | 20615 | Buffalo.
Dobiesz | Ronald | 09127 | Buffalo.
Dotson | Sandra | 10334 | Buffalo.
Gajewski | Robert | 09270 | Buffalo.
Gambino Jr | Jerry | 05521 | Buffalo.
Giambra | Leonard | 15436 | Buffalo.
Greco | Frank | 06088 | Buffalo.
Imbriano | Peter | 10681 | Buffalo.
Kolb | Laure | 12146 | Buffalo.
Odrzywolski | Michael | 23310 | Buffalo.
Oviatt | Kris | 22527 | Buffalo.
Owen Jr | John | 05192 | Buffalo.
Quigley | Mark | 06069 | Buffalo.
Rogers | Daniel | 28978 | Buffalo.
Schlopsnies | Lorita | 17192 | Buffalo.
Shellman | Paula | 16489 | Buffalo.
Belrose | Daniel J | 20772 | Champlain.
Carey | William H | 05270 | Champlain.
Henry | David A | 05334 | Champlain.
Padilla | Karen E | 15420 | Champlain.
Saunders | Sheldon | 15421 | Champlain.
Gorrell | Kimberly C | 20798 | Charleston.
Judy | Andrea Nicole | 27811 | Charleston.
Towney | Shelton B | 09530 | Charleston.
Turner | Lorinda | 10365 | Charleston.
Faison | Michelle | 30144 | Charlotte.
Furr | Suzanne Linker | 04811 | Charlotte.
Holden | Stephanie | 27403 | Charlotte.
Knott | John | 28691 | Charlotte.
Pangel | Maxine | 11480 | Charlotte.
Setzer | Ronald | 13556 | Charlotte.
Smeltzer | Sylvia | 15974 | Charlotte.
Askew | Mary | 15311 | Chicago.
Barger | Vera | 17352 | Chicago.
Burger | Joseph | 04995 | Chicago.
Contarsy | Laurence | 15437 | Chicago.
Degroot | Laura | 09471 | Chicago.
Deneka | Edward | 04988 | Chicago.
Donovan | Amanda | 28535 | Chicago.
Drozd | Dennis | 12220 | Chicago.
Ertler | Julia | 10506 | Chicago.
Gurmai | Michael | 13520 | Chicago.
Hanna | Victoria | 14004 | Chicago.
Jefferson | Bruce | 15947 | Chicago.
Kamaris | Perry | 11586 | Chicago.
Larsen | Margaret | 16439 | Chicago.
Lewis | Marc | 12221 | Chicago.
Lindholm | Nancy | 13525 | Chicago.
Lopez | Jose | 31656 | Chicago.
Neher | Blake | 24131 | Chicago.
Pawelczyk | Jeanine | 15877 | Chicago.
Ramm | William | 21831 | Chicago.
Reichstein | Claire | 29392 | Chicago.
Robinson | Julie | 10800 | Chicago.
Slapinski | Robert | 14537 | Chicago.
Staggs | Rebecca | 13852 | Chicago.
Stevens | James | 29973 | Chicago.
Swiech | Ann | 17170 | Chicago.
Vitols | Gail | 10676 | Chicago.
Welton | James | 14034 | Chicago.
Wrzesinski | Robert | 12420 | Chicago.
Wynne | Richard | 08029 | Chicago.
Albright | Clyde | 06764 | Cleveland.
Blanton | Nancy | 14891 | Cleveland.
Bowles | Kymberlee | 27568 | Cleveland.
Camic | Beverly | 10204 | Cleveland.
Clement | Pierre | 30713 | Cleveland.
Colburn | Sandra | 16035 | Cleveland.
Cross | Paul | 22889 | Cleveland.
Diersing | Jenifer | 21811 | Cleveland.
Farris | Donald | 10205 | Cleveland.
Gabriel | Meredith W | 15182 | Cleveland.
Hamilton | Denise | 22750 | Cleveland.
Henry | Donald | 23809 | Cleveland.
Hohenstein | Cynthia | 11311 | Cleveland.
Houk | Timothy | 15866 | Cleveland.
Kallmayer | Susan | 05626 | Cleveland.
Kneale | James | 13239 | Cleveland.
Lhota | Kenneth | 20903 | Cleveland.
Moore | David | 04481 | Cleveland.
Pierce | John | 09987 | Cleveland.
Pyatte | Charles | 11837 | Cleveland.
Santel | Jacob | 32005 | Cleveland.
Shea | Katherine | 21689 | Cleveland.
Short | Patricia | 15279 | Cleveland.
Spurgeon | Wynelle | 07002 | Cleveland.
Taliano | Natalie | 16379 | Cleveland.
Taylor | Linda | 14905 | Cleveland.
Tolliver | Silas | 28252 | Cleveland.
Veneziano | Patricia | 23590 | Cleveland.
Watson | Michael | 06752 | Cleveland.
Armstrong | Kathie | 20206 | Dallas.
Auten | Douglas | 20569 | Dallas.
Butler | Dustin | 29068 | Dallas.
Canada | Stephen | 12831 | Dallas.
CK Logistics Inc |  | 20986 | Dallas.
Edelstein | Ronald | 21159 | Dallas.
Ferguson | Norma | 16582 | Dallas.
Kruse | Amanda | 30044 | Dallas.
Mosley | Rick | 13757 | Dallas.
Snow | Rochelle | 09491 | Dallas.
Thompson | Laura J | 07213 | Dallas.
Umanah | Koko | 31463 | Dallas.
Venable | Donald | 20398 | Dallas.
Venable Family Interest Inc |  | 23582 | Dallas.
Worldlink Express Inc |  | 23138 | Dallas.
Adair | Matthew | 11820 | Detroit.
Andrews | Mark | 28236 | Detroit.
Bashaw | Deborah | 24134 | Detroit.
Bradley-Niner | Katie | 31996 | Detroit.
Brooks | Kevin | 23325 | Detroit.
Busch | Joshua | 30447 | Detroit.
Butash | Robert | 12436 | Detroit.
Casper | Christine | 30455 | Detroit.
Coury | Richard | 22809 | Detroit.
Cusenza | Daniel | 30833 | Detroit.
Ernewein | Carol | 16839 | Detroit.
Fitzpatrick | Ann | 10255 | Detroit.
Forbes | Laura Springer | 06287 | Detroit.
Gessler | Gary | 17540 | Detroit.
Glenn | William | 27669 | Detroit.
Havey | Paul | 23653 | Detroit.
Irwin | Timothy | 09518 | Detroit.
Jacobs | Marcella | 09781 | Detroit.
Jones | Leslie | 04846 | Detroit.
Jordan | Denise | 15426 | Detroit.
Kidd | Jean | 14352 | Detroit.
Kilp | Ralph | 05451 | Detroit.
Kominars | Ellen | 22485 | Detroit.
Kreucher | Gary | 17020 | Detroit.
Larson | Harvey | 04920 | Detroit.
Leja | Brian | 09517 | Detroit.
Marshall | David | 14939 | Detroit.
Moroni-King | Shirley | 14593 | Detroit.
Morris | Susan | 07765 | Detroit.
Radke | Jamie | 29732 | Detroit.
Register | Vernetta | 15931 | Detroit.
Robinson | Paul | 14978 | Detroit.
Sangster | Janet | 15711 | Detroit.
Schiferl | John | 15973 | Detroit.
Schmidt | Debra | 17522 | Detroit.
See | Daniel | 05535 | Detroit.
Shanks | Jay | 14061 | Detroit.
Steinhilber | Richard | 16397 | Detroit.
Stevens | Graham | 28716 | Detroit.
Stevens | Janet | 11034 | Detroit.
Thompson | Christopher | 29385 | Detroit.
Thompson | Linda | 13242 | Detroit.
Tucker | Nancy | 21525 | Detroit.
Vermeulen | Ronald | 09316 | Detroit.
Wilson | Chet | 14986 | Detroit.
Davis | Nellie M | 13653 | El Paso.
Maynard | Sarah-Jane W | 13579 | El Paso.
Mendoza | Maria De Jesus | 14366 | El Paso.
Stagecoach Cartage & Distribution, Inc |  | 21135 | El Paso.
Vasquez | Mario A | 15772 | El Paso.
Agnew | Stephen | 07835 | Great Falls.
Brucker | Richard | 16800 | Great Falls.
Byars | Artamis | 21614 | Great Falls.
Fahrenholtz | Janice | 12116 | Great Falls.
Gellert | Ryan | 20852 | Great Falls.
Henkle | Charles | 13824 | Great Falls.
Iverson | Dale | 15779 | Great Falls.
Johansen | Maureen | 14177 | Great Falls.
Mason | Jennie | 12048 | Great Falls.
Peterson | Jeannette | 14769 | Great Falls.
Rode | Mark | 11881 | Great Falls.
Sullivan | Joyce | 13470 | Great Falls.
Williams | Julie | 16164 | Great Falls.
Zimmerman | Nikki | 22359 | Great Falls.
Braverman | Carmen | 04272 | Houston.
Bynum | Diane | 06323 | Houston.
Capriles | Mauricio | 07200 | Houston.
Cooke | Marcia | 09462 | Houston.
Dipilato | Vincent | 05172 | Houston.
Doyle | Allyson | 10571 | Houston.
El | Muqallibu | 30386 | Houston.
Foty | Julia | 06242 | Houston.
Gandee | William | 06383 | Houston.
Hammond | Timothy | 15296 | Houston.
Harding | William | 14461 | Houston.
ISS Brokerage Services Inc |  | 30545 | Houston.
K & K Express, Inc |  | 16731 | Houston.
Kidd | William | 15532 | Houston.
McDonald | Patrick | 30975 | Houston.
Moreno | Ana | 31585 | Houston.
Peden | Margaret | 14997 | Houston.
Shriver | Sue | 09741 | Houston.
Stanford | Pamela | 14839 | Houston.
Summers | Dennis | 05224 | Houston.
Wild | Margretta | 06428 | Houston.
Tello | Mario | 13059 | Laredo.
Araki | Leslie | 10284 | Los Angeles.
Auyang | Herman | 06935 | Los Angeles.
Baran | Catherine | 17236 | Los Angeles.
Beltran | Rosa | 16337 | Los Angeles.
Berckley | Nina Marie | 12535 | Los Angeles.
Bernard | John | 13209 | Los Angeles.
Billow | David | 29302 | Los Angeles.
Billows | Dennis | 12250 | Los Angeles.
Bohen | Timothy | 29585 | Los Angeles.
Bornstein | Susan | 13778 | Los Angeles.
Brady | John | 07512 | Los Angeles.
Carmeli | Adam | 29678 | Los Angeles.
Chou | Susan | 14405 | Los Angeles.
Crutsinger | Katherine | 29220 | Los Angeles.
Curtis | Robert | 11093 | Los Angeles.
Davis | Casey | 29467 | Los Angeles.
Diep | Nghia | 24033 | Los Angeles.
Duntley | James | 05668 | Los Angeles.
Duntley | Marian Elizabeth | 10288 | Los Angeles.
FWI Corporation |  | 09628 | Los Angeles.
Fernandez | Max | 06693 | Los Angeles.
Finnerty | Sharon L | 09090 | Los Angeles.
Fordyce | Janet Ruth | 14795 | Los Angeles.
Gardner | Brett | 14382 | Los Angeles.
Garetson | Robert | 11637 | Los Angeles.
Gonzalez | Wilfred | 05137 | Los Angeles.
Hendrickson | Carol | 11644 | Los Angeles.
Henriques | Stella | 07826 | Los Angeles.
Ho | Frankie | 09433 | Los Angeles.
James L. Kinney CHB, Inc |  | 22943 | Los Angeles.
Kim | Jae | 23324 | Los Angeles.
Kirtley | George | 13169 | Los Angeles.
Kolstad | Victoria | 21509 | Los Angeles.
Lamana | Judy | 09344 | Los Angeles.
Lambert | Robert | 13104 | Los Angeles.
Larose | Amanda | 28122 | Los Angeles.
Lawlor | Bonnie | 10693 | Los Angeles.
Le Frois | Holly | 13531 | Los Angeles.
Lee | Angela | 27589 | Los Angeles.
Loncar | Catherine | 13586 | Los Angeles.
MacNicol | Neil | 07535 | Los Angeles.
Marlowe & Company, Inc |  | 09608 | Los Angeles.
Martinez | Pauline | 16466 | Los Angeles.
Meetre | Janet | 10919 | Los Angeles.
Meinheit | William | 12189 | Los Angeles.
Miyamoto | Atsushi | 10422 | Los Angeles.
Moran | Terrence | 09606 | Los Angeles.
Nishida | Guy Timothy | 05956 | Los Angeles.
Ostrowski | Jerzy | 16748 | Los Angeles.
Rumohr | Ullrich | 07127 | Los Angeles.
Saito | Wayne | 06290 | Los Angeles.
Salvo | Enrico | 03359 | Los Angeles.
Saxer | Fred | 05824 | Los Angeles.
Scheer | Amy Jo | 14367 | Los Angeles.
Schnare | Laverne | 09136 | Los Angeles.
Shafran | Lisa | 22908 | Los Angeles.
Shannon | Connie | 09494 | Los Angeles.
Shoemaker | Carole | 10282 | Los Angeles.
Sistla | Kishan | 20692 | Los Angeles.
Smith | Louis | 05940 | Los Angeles.
Stites | Keith | 14073 | Los Angeles.
Suzuki | Akio | 13157 | Los Angeles.
Tozer | Karen | 13156 | Los Angeles.
Trans-Union Customs Service, Inc |  | 13810 | Los Angeles.
Tucker | Susan | 23670 | Los Angeles.
Urciuoli | Lisa | 13720 | Los Angeles.
Wada | Eleanor | 27900 | Los Angeles.
Wedemeyer | Wilfried Erich Johann | 10625 | Los Angeles.
Wolf | Vivian | 07746 | Los Angeles.
Yi | Jeffrey | 31576 | Los Angeles.
Barr | James | 20421 | Milwaukee.
Pollack | Donna | 20423 | Milwaukee.
Radloff | Michael | 11809 | Milwaukee.
Stehlik | Constance | 15310 | Milwaukee.
Bode | Rachel Marie | 10510 | Minneapolis.
Deering | Christine | 31281 | Minneapolis.
Deschene | Linda | 22629 | Minneapolis.
Holland | Harold L | 09662 | Minneapolis.
Klucas | Donna | 08020 | Minneapolis.
Lukoskie | Lawrence T | 06812 | Minneapolis.
Schultz | Kay L | 12104 | Minneapolis.
Seegert | Norman A | 07287 | Minneapolis.
Soderman | Kjordan | 31696 | Minneapolis.
Thomas | Allen L | 10510 | Minneapolis.
Beaty | Mark D | 28826 | Mobile.
Cutchens | Karen Kimbrell | 21727 | Mobile.
Madden | Marvin | 06059 | Mobile.
Myers | Kenneth H | 14160 | Mobile.
O'Neil | Francis E | 21238 | Mobile.
Thompson | Cathy | 20046 | Mobile.
Woolley | Willis Paul | 05780 | Mobile.
Baker | Kathryn | 11674 | New Orleans.
Champagne Jr | Alois P | 04523 | New Orleans.
Davidson | Roberta H | 07418 | New Orleans.
Dillion | Talmage L | 06956 | New Orleans.
Kelley III | James | 23151 | New Orleans.
Madere | Veronica | 17249 | New Orleans.
Norris | Michael Allen | 28571 | New Orleans.
Renauldo | Anthony | 15771 | New Orleans.
St. John | Dale Raymond | 03345 | New Orleans.
Trescott | Diane | 27484 | New Orleans.
Advance Shipping Co., Inc |  | 03597 | New York.
Aldrich | Steven | 29868 | New York.
All City Brokers and Forwarders, LLC |  | 21925 | New York.
Antoniello | Francis | 10649 | New York.
Bacigalupo | Arnold | 10480 | New York.
Batkin | Shannon | 17575 | New York.
Brogan | Susan H | 05862 | New York.
Brokerage & Management Solutions, Inc |  | 23389 | New York.
Buckwalter | Andrew | 07887 | New York.
Cannon | Nancy | 05565 | New York.
Carroll | James | 12877 | New York.
Chou | Ya | 28322 | New York.
Coaxum | Virginia | 22549 | New York.
Crozier Fine Arts, Inc |  | 13491 | New York.
Cunningham | Patricia | 09675 | New York.
Czubak | Taras | 07853 | New York.
Delsardo | Judy | 06844 | New York.
Drummond | Lorraine | 22842 | New York.
Export-Import Air Services, Inc |  | 04952 | New York.
Fay | Pierre | 14626 | New York.
Fitzgerald | Edward | 05719 | New York.
Geraghty | James | 15495 | New York.
Hasson | Raymond | 05492 | New York.
Higgins | Elizabeth | 11380 | New York.
Jaisli | John | 06078 | New York.
Johnston Jr | E. Brownell | 13453 | New York.
Kampel | Deborah | 10748 | New York.
Kathmeyer | Birgit | 16409 | New York.
Kerans & Daly, Inc |  | 15539 | New York.
Kopp | Mark | 10613 | New York.
Krayton | Chester | 11933 | New York.
Liotta | Christine | 12295 | New York.
Liu | Donald | 27904 | New York.
Lui | Raymond | 30421 | New York.
McManus | John | 09322 | New York.
Miksits | Gertrude | 11161 | New York.
Moss | Rosanne | 06166 | New York.
Nazario | Aurelio | 13464 | New York.
Ost | Mary Ann | 10179 | New York.
Penson | James | 03918 | New York.
Perlweig | David | 09514 | New York.
Persaud | Nardat | 10049 | New York.
Petersel | Roberta | 07895 | New York.
Piechota | Robert | 23529 | New York.
Popowytsch | Diane | 09719 | New York.
Rafferty | Joseph | 13279 | New York.
Renn | Claire | 12511 | New York.
Richardson | Louise | 13069 | New York.
S.H. Brogan Consulting, Inc |  | 10107 | New York.
Sampathkumar | Mythili | 30598 | New York.
Sarkisian | Fanok Mara | 06561 | New York.
Schlaen-Kopelman | Marcela | 24019 | New York.
Schulmann | Allen | 27411 | New York.
Serrano | Norby | 29098 | New York.
Shi | Amy | 29361 | New York.
Stone | Evelyn | 17363 | New York.
Sullivan | William | 17285 | New York.
Thruport International LLC |  | 29319 | New York.
Timm | Gregory | 10851 | New York.
Timm Jr | Charles | 03101 | New York.
TreOrra, Inc |  | 29439 | New York.
Tse | Kan Hong | 27798 | New York.
Turner | William | 07510 | New York.
Van Ek | Edwin | 09829 | New York.
Weinberger | Andrew | 09869 | New York.
Wellock | John | 09076 | New York.
Winterfeld | Arthur | 07098 | New York.
Wo | Albert | 07742 | New York.
Wong | Chelsia | 10756 | New York.
Woo | Samantha | 17389 | New York.
Yang | James | 28133 | New York.
Zagariello | Joseph | 12669 | New York.
Zekser | Samuel | 03381 | New York.
Zeng | Wangyong | 31053 | New York.
Zubrycki | Gregory | 14523 | New York.
Carrillo | Doreen | 32035 | Nogales.
Chapman | Mary | 23007 | Nogales.
Kacy | Stephen | 15638 | Nogales.
Lay | Charles | 06758 | Nogales.
Partida | David | 12543 | Nogales.
Partida Brokerage, Inc |  | 12590 | Nogales.
Torpey | Diane | 09116 | Nogales.
O'Neal | Janet B | 09909 | Norfolk.
Price | Robin Meister | 22774 | Norfolk.
Riley | Elizabeth Jane | 29404 | Norfolk.
Brooks | Timothy | 14825 | Otay Mesa.
Bryant | Joyce | 14982 | Otay Mesa.
Cervantes | Elsa | 16168 | Otay Mesa.
Dorsch | Dorothy | 06756 | Otay Mesa.
Jones | Calvin | 23484 | Otay Mesa.
Lewis | Grace | 22274 | Otay Mesa.
Poe | Rachel | 29388 | Otay Mesa.
Ruelas | Edgar | 22927 | Otay Mesa.
Smith | Margaret A | 07025 | Otay Mesa.
Soto | Maria | 12581 | Otay Mesa.
Villanueva | Anthony | 06010 | Otay Mesa.
Vuckovich | Dragica | 21931 | Otay Mesa.
Weldy | Rose | 13278 | Otay Mesa.
Lehto | Benjamin | 29648 | Pembina.
Wilkie | Kathy | 11490 | Pembina.
Barnhill | Joan | 04241 | Philadelphia.
Burrows | Holly | 28136 | Philadelphia.
Cherry | Arthur | 03504 | Philadelphia.
D'Angelo | Frank | 06446 | Philadelphia.
Di Gabrielle | Marco | 12062 | Philadelphia.
Dunford | Margaret Ann | 09830 | Philadelphia.
Klingbeil | Susan | 10847 | Philadelphia.
McManus | Gerald | 11185 | Philadelphia.
Rivera | Miguel | 20620 | Philadelphia.
Simpson | Donald | 06611 | Philadelphia.
Sweeney | Marie | 27978 | Philadelphia.
Kelley | John T | 11956 | Portland, ME.
Lambert | Michelle | 15031 | Portland, ME.
Wilson | Janice E | 05507 | Portland, ME.
Backer | Lynda | 15098 | Portland, OR.
Bush | Katen | 28700 | Portland, OR.
Cassens | Brandon | 30960 | Portland, OR.
Cook | Jeffrey | 15097 | Portland, OR.
Forwarders | Lindsey | 14223 | Portland, OR.
Harker | Cynthia | 10338 | Portland, OR.
Hoem | Renee | 10501 | Portland, OR.
Parham | Thomas Edwin | 05744 | Portland, OR.
Perry | Sandra | 17025 | Portland, OR.
Pierson | Tiffany | 30782 | Portland, OR.
Potter | Teresa | 13102 | Portland, OR.
Russinger | Darren | 23898 | Portland, OR.
Stanton | Thomas | 06635 | Portland, OR.
Bateman | Terry | 10259 | San Francisco.
Beinhoff | Brigitte | 05078 | San Francisco.
Beleny | Ashley | 31487 | San Francisco.
Blake-Neumann | Annie | 14620 | San Francisco.
Chang | Amy M | 17479 | San Francisco.
Chen | April | 23866 | San Francisco.
Choe | Grace J | 20682 | San Francisco.
Cleary | Maritza | 13679 | San Francisco.
Cooley | Richard | 05001 | San Francisco.
Greenwood | Kim | 09626 | San Francisco.
Hanks | Ena | 16652 | San Francisco.
Harrison | Philip | 12134 | San Francisco.
Heng | Vic | 05785 | San Francisco.
Hernandez | Sofia | 24150 | San Francisco.
Hikima | Masaru | 17119 | San Francisco.
Holguin | Joe | 05917 | San Francisco.
Hover-Smoot | Philip | 29816 | San Francisco.
Insdorf | Jason | 20210 | San Francisco.
Kelley | Skyler | 09796 | San Francisco.
Kim | Brad | 20411 | San Francisco.
Kromat | Dan | 04562 | San Francisco.
Lal | Rajendra | 15846 | San Francisco.
Lingle | Jeanette Marie | 16359 | San Francisco.
Liu | David Nien-Tzu | 23777 | San Francisco.
Magee | Daniel | 05644 | San Francisco.
Marcillac | Ronald | 07325 | San Francisco.
Matthews | Celia | 15273 | San Francisco.
Murphee | Ludene C | 22479 | San Francisco.
Murphy | Gerhard | 17558 | San Francisco.
Nelson | Lisa | 21960 | San Francisco.
Obester | Douglas | 27737 | San Francisco.
Packard | Charles | 06249 | San Francisco.
Palomo | Gerardo | 09756 | San Francisco.
Partridge | Scott G | 13151 | San Francisco.
Peretti | Caroline | 14965 | San Francisco.
Perreira | Sylvia | 14242 | San Francisco.
Regan | Donald | 23236 | San Francisco.
Riley | Norene T | 29021 | San Francisco.
Robb | David | 21521 | San Francisco.
Russell | Chris | 06578 | San Francisco.
Sanford | Courtney | 32168 | San Francisco.
Springer | Adela | 20679 | San Francisco.
St. Thomas | Harold | 03831 | San Francisco.
Swamidass | Jayanth | 30315 | San Francisco.
Takahara | Junji | 16367 | San Francisco.
Teague | Yannie | 06105 | San Francisco.
Thompson | Roland | 12412 | San Francisco.
Thorpe | Geoffrey | 14113 | San Francisco.
Trojak | Cinnamon | 21959 | San Francisco.
Truhe | Carolee | 13562 | San Francisco.
Weldon | Dianne | 05229 | San Francisco.
Wolf | Ronald | 16674 | San Francisco.
Young | Serena | 17508 | San Francisco.
Bernabe | Liza E. Freire | 28813 | San Juan.
Dobson | Andrew Newton | 20815 | San Juan.
J. Noya U.S. Customs Broker, Inc |  | 23162 | San Juan.
Latimer | Michael Louis | 28815 | San Juan.
Nazario | Jaime | 18015 | San Juan.
Oliver | Liza M. Ramirez De Arellano | 30177 | San Juan.
Aspinwall | Ronald | 12433 | Savannah.
Carter | Richard | 05491 | Savannah.
Clayton | Arthur | 14257 | Savannah.
Craig | Beth | 09657 | Savannah.
Hammontree | Cathy | 13382 | Savannah.
Hardeman | Laura Green | 13434 | Savannah.
Kiley | Patrice A | 05715 | Savannah.
Mobley | Paul E. | 12001 | Savannah.
Revoir | Patricia | 10952 | Savannah.
Russell | Ray | 14292 | Savannah.
Schirrmacher | Sandra | 10525 | Savannah.
Smith | Brenda | 07678 | Savannah.
Towns | Richard | 04417 | Savannah.
Wrench | David | 14401 | Savannah.
Ascott | Ivan | 29797 | Seattle.
Bloomer | Patricia | 22047 | Seattle.
Coughlin | Christopher | 12663 | Seattle.
Criez | Ernest | 09062 | Seattle.
Demeroutis | Melanie | 06468 | Seattle.
Fidler | Christopher | 15701 | Seattle.
Greening | Jacquline | 10839 | Seattle.
Ingham | Donna | 22601 | Seattle.
Johnson | Catherine | 13791 | Seattle.
Johnson | Kirk | 12482 | Seattle.
Lang | Mary | 20479 | Seattle.
Lewis | William | 22037 | Seattle.
Lyon | Diane Lysander | 32240 | Seattle.
MacGillivray | Andrew | 15456 | Seattle.
Messmer | Jeff | 14856 | Seattle.
Morris | Karen | 18010 | Seattle.
Odegaard | Steven | 05170 | Seattle.
O'Dell | Jane | 05648 | Seattle.
Ostey | Donald | 16781 | Seattle.
Qvigstad | Kari | 11279 | Seattle.
Rhodes | Bruce | 07899 | Seattle.
Roehl | Carl | 05101 | Seattle.
Scherer | Sylvia | 13965 | Seattle.
Stecher | Charlene | 09140 | Seattle.
Tokin | Albert | 04212 | Seattle.
Clair | Judy C | 06458 | St. Albans.
London | Karen Ann S | 14994 | St. Albans.
Brady | Carol | 21819 | St. Louis.
Butler | Mary J | 14399 | St. Louis.
Crampton | Sherri | 28420 | St. Louis.
Davis | Tammy | 30019 | St. Louis.
Drost | Robert | 12848 | St. Louis.
Eschenbrenner | Daniel | 07001 | St. Louis.
Feuerborn | Rachael | 30947 | St. Louis.
Goris | Jan C | 20327 | St. Louis.
Keller | Donald A | 03776 | St. Louis.
Kennedy | Duane | 23728 | St. Louis.
Landsbaum | Daniel | 04946 | St. Louis.
Langham | Stan | 04580 | St. Louis.
Meadows | Matthew | 11512 | St. Louis.
Meadows | William Harry | 04292 | St. Louis.
Strobel | Alicia | 16640 | St. Louis.
Vogt | Cynthia A | 15189 | St. Louis.
Williams | Richard | 20444 | St. Louis.
Bastman | Anders | 15744 | Tampa.
Hall | Corie | 13627 | Tampa.
Huber | Donald | 12053 | Tampa.
Joye | Mark | 06478 | Tampa.
Karumsi | Dipan | 17360 | Tampa.
Lisowski | Louis | 13901 | Tampa.
Menendez | Robert | 05544 | Tampa.
Rodrigues | Raymond | 20407 | Tampa.
Santana | Freddie | 24349 | Tampa.
Suzanne Shiffer CB, Inc |  | 27645 | Tampa.
Villar | Barbara | 07387 | Tampa.
Wise | Jonathan | 23277 | Tampa.
Depace | Lawrence | 11579 | Washington, DC.
Essex | Ashley E | 30753 | Washington, DC.
Golemon | Meredith Lee | 22352 | Washington, DC.
Oskul | Mehrnoosh Rouhani | 13676 | Washington, DC.
Seligmann | Emanuel Mark | 07328 | Washington, DC.
Ware | Sarah Rebecca | 13978 | Washington, DC.

Dated: December 21, 2018.
Brenda B. Smith,
Executive Assistant Commissioner, Office of Trade.

[FR Doc. 2019-02837 Filed 2-19-19; 8:45 am]

BILLING CODE 9111-14-P